DEPARTMENT OF HEALTH AND HUMAN SERVICES

Administration for Children and Families

Submission for OMB Review; Low Income Home Energy Assistance Program (LIHEAP) Performance Data Form (OMB #0970-0449)

AGENCY: Office of Community Services, Administration for Children and Families, HHS.

ACTION: Request for public comment.

SUMMARY: The Administration for Children and Families (ACF) is requesting reinstatement of the Low Income Home Energy Assistance Program (LIHEAP) Performance Data Form (Office of Management and Budget (OMB) #0970-0449, expiration date March 31, 2021) with changes. Changes include additional reporting items to collect Module 2 (Performance Measures) data on the impacts of supplemental federal LIHEAP funds, and other minor changes to the most recent version of this form.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing infocollection@acf.hhs.gov. Identify all emailed requests by the title of the information collection.

SUPPLEMENTARY INFORMATION:

Description: The ACF Office of Community Services (OCS) within the U.S. Department of Health and Human Services (HHS) administers the Low Income Home Energy Assistance Program (LIHEAP) at the Federal level. The LIHEAP Performance Data Form (LPDF) is an annual report in response to Section 2610(b) of the LIHEAP statute (42 U.S.C. 8629(b)) which requires the Secretary of HHS to submit, no later than June 30 of each federal fiscal year, a report to Congress on LIHEAP for the prior federal fiscal year. The completeness, accuracy, consistency, and timeliness of responses to data collections are needed for HHS to do the following:

• Provide reliable and complete fiscal and household data to Congress in the Department's LIHEAP Report to Congress for the federal fiscal year; and

• Respond to questions from the Congress, Department, OMB, White House, and other interested parties in a timely manner; and report LIHEAP performance results as part of the Administration's annual Congressional Justification.

In response to the 2010 Government Accountability Office (GAO) report, Low Income Home Energy Assistance Program—Greater Fraud Prevention Controls are Needed (GAO-10-621), and in consideration of the recommendations issued by the LIHEAP Performance Measures Implementation Work Group, OCS required the collection and reporting of these performance measures by state LIHEAP grantees, including the District of Columbia. OMB approved the LIHEAP Performance Data Form (LPDF) in November 2014 (OMB Clearance No. 0970-0449) and approved continued collection using the form through March 31, 2021. This request will reinstate approval to collect information using the LPDF for another three years. The LPDF provides for the collection of the following LIHEAP performance measures which are considered to be developmental as part of the LPDF:

1. The benefit targeting index for high burden households receiving LIHEAP fuel assistance;

2. The burden reduction targeting index for high burden households receiving LIHEAP fuel assistance;

3. The number of households where LIHEAP prevented a potential home energy crisis; and

4. The number of households where LIHEAP benefits restored home energy.

All state LIHEAP grantees are required to complete the LPDF on an annual basis. The reporting requirements will be described through the LIHEAP Forms and Funding Applications page (https://www.acf.hhs.gov/ocs/form/liheap-forms-and-funding-applications) of ACF's website.

The previous OMB-approved LIHEAP Grantee Survey on sources and uses of LIHEAP funds was added in 2014 to the LPDF as an addition to the LIHEAP performance data. Additional items for separately reporting LIHEAP funds appropriated by the CARES Act (Pub. L. 116-136) were added in 2020.

ACF proposes additional changes for this data collection activity. These consist of (1) adding an item for reporting previous-year Residential Energy Assistance Challenge (REACH) funds in Module 1; (2) removing three reporting items from Module 1; (3) adding items to collect Module 2 (Performance Measures) data on the impacts of supplemental federal LIHEAP funds; and (4) minor wording or label changes.

The form is divided into the following modules to add clarity:

Module 1. LIHEAP Grantee Survey (Required Reporting)

Module 1 of the LPDF will continue to require the following data from each state for the federal fiscal year:

• Grantee information;

• Sources and uses of LIHEAP funds, by funding type;

• Average LIHEAP household benefits, by funding type; and

• Maximum income cutoffs for 4-person households for each type of LIHEAP assistance provided by each grantee for the fiscal year, by funding type.

Module 2. LIHEAP Performance Measures (Required Reporting)

Module 2 of the LPDF will continue to require the following data from each state for the federal fiscal year:

• Grantee information;

• Energy burden targeting;

• Restoration of home energy service; and

• Prevention of loss of home energy.

Module 2 has been revised to include three submodules: Module 2A will collect data on all households, Module 2B will collect data on the subset of households that received assistance from LIHEAP CARES Act funds, and Module 2C will collect data on the subset of households that received assistance from LIHEAP ARPA funds.

Module 3. LIHEAP Performance Measures (Optional Reporting)

Module 3 of the LIHEAP LPDF will continue to voluntarily collect the following additional information from each interested grantee for the federal fiscal year:

• Average annual energy usage;

• Unduplicated number of households using supplemental heating fuel and air conditioning;

• Unduplicated number of households that had restoration of home energy service, and

• Unduplicated number of households that had prevention of loss of home energy.

LIHEAP grantees will be able to compare their own results to the results for other states, as well as to regional and national results, through the Data Warehouse of the LIHEAP Performance Management website as they manage their programs.

ACF published a Federal Register notice on March 19, 2021 soliciting 60 days of public comment on the renewal of the LIHEAP Performance Data Form with minor changes and the continuation of requiring State grantees and the District of Columbia to collect the data collection annually. ACF received no comments on this notice. Following the publication of the 60-day Federal Register notice, new supplemental funds were awarded for LIHEAP. To allow ACF to report information on the impacts of the supplemental LIHEAP funds, ACF is proposing updates to Module 2 to collect additional performance data related to supplemental LIHEAP funds.

Respondents: State governments, including the District of Columbia; the largest five electricity and natural gas vendors by state; the largest ten fuel oil and propane vendors by state; and state sub-grantees.

Annual Burden Estimates
Instrument | Total number of respondents | Annual number of responses per respondent | Average burden hours per response | Annual burden hours
Module 1 (Grantee Survey)
State Grantees—Module I | 51 | 1 | 36 | 1,836
Modules 2 and 3 (LIHEAP Performance Measures)
State Grantees—Modules II and III | 51 | 1 | 200 | 10,200
Sub-Grantees (in states with sub-grantee managed systems)—Modules II and III | 100 | 1 | 8 | 800
Energy Vendors (largest 5 electric, 5 natural gas, 10 fuel oil, and 10 propane vendors per state-average)—Modules II and III | * 1,530 | 1 | 8.5 | 13,005
* Estimate.

Estimated Total Annual Burden Hours: 25,841.

Authority: 42 U.S.C. 8629(b); 42 U.S.C. 8624(b); 42 U.S.C. 8623(c).

Mary B. Jones,
ACF/OPRE Certifying Officer.

[FR Doc. 2021-27277 Filed 12-15-21; 8:45 am]

BILLING CODE 4184-80-P